DEPARTMENT OF ENERGY

Federal Energy Regulatory Commission

[Project No. 2744-038]

N.E.W. Hydro, Incorporated; Notice of Filing of Settlement Agreement Regarding License Article 401

September 16, 2004.

On July 16, 2004, N.E.W. Hydro, Incorporated (licensee) filed an Offer of Settlement regarding implementation of license article 401 for the Menominee and Park Mill Project (FERC No. 2744). License article 401 requires, in part, that the licensee consult with state and federal natural resource agencies and develop a study to assess the impacts of project operation on fish resources. The hydroelectric project is located on the Menominee River in Marinette County, Wisconsin and Menominee County, Michigan.

The Offer of Settlement addresses fish entrainment and mortality at the project with respect to implementation of article 401 of the license for the project. The Offer of Settlement was filed with the Federal Energy Regulatory Commission (FERC), by the licensee, on behalf of the signing parties that included: the U.S. Fish and Wildlife Service; the Wisconsin Department of Natural Resources; the Michigan Department of Natural Resources; and the Michigan Hydro Relicensing Coalition.

The settlement includes: (1) Provisions for the licensee to fund a fish passage/protection fund; (2) an agreement that it is not anticipated that any additional requirements during the remaining term of the license would appear to be necessary; (3) an agreement to enter into good faith negotiations aimed at a settlement of all issues concerning the relicensing of the project; (4) commitment by the licensee to request, from FERC, an accelerated relicensing of the project; and (5) a provision for dispute resolution processes in the event a disagreement arises from the interpretation of the terms and conditions of the settlement.

The Offer of Settlement can be viewed and printed from FERC's Web page: http://www.ferc.gov. Click on e-Library and follow the instructions. In the box titled, “Docket Number” enter: P-2744. If you have any questions regarding this notice, please contact Mr. Thomas LoVullo at (202) 502-8900 at the Federal Energy Regulatory Commission.

Linda Mitry,
Acting Secretary.

[FR Doc. E4-2322 Filed 9-22-04; 8:45 am]

BILLING CODE 6717-01-P